ENVIRONMENTAL PROTECTION AGENCY

[ER-FRL-8599-5]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Draft EISs

EIS No. 20090312, ERP No. D-COE-F39043-OH, Cleveland Harbor Dredged Material Management Plan, Operations and Maintenance, Cuyahoga County, OH.

Summary: EPA expressed environmental concerns about air quality impacts, and recommended implementation of mitigation measures. Rating EC2.

EIS No. 20090315, ERP No. D-FTA-K40273-CA, Crenshaw Transit Corridor Project, Proposes to Improve Transit Services, Funding, Los Angeles County Metropolitan Transportation Authority (LACMTA), Los Angeles County, CA.

Summary: EPA expressed environmental concerns about the air quality analysis, and offered additional suggestions for water quality impact analysis and mitigation. Rating EC2.

EIS No. 20090382, ERP No. D-IBR-K39123-CA, Central Valley Project Water Supply Contracts Under Public Law 101-514 (Section 206), Proposed Water Service Contracts with the El Dorado County Water Agency, El Dorado County, CA.

Summary: EPA does not object to the proposed action. Rating LO.

Final EISs

EIS No. 20090340, ERP No. F-AFS-J65499-UT, Pockets Resource Management Project, Additional Information on Analysis and Disclosure on the Effect of the PA and Alternatives on Three Unroaded and Undeveloped Areas Identified on a 2005 Draft Map, Proposes to Salvage Dead and Dying Spruce/Fir, Regenerate Aspen, and Manage Travel, Escalate Ranger District, Dixie National Forest, Garfield County, UT.

Summary: No formal comment letter was sent to the preparing agency.

EIS No. 20090375, ERP No. F-AFS-L65575-OR, Deadlog Vegetation Management Project, To Implement Treatments that would Reduce the Risk of High Intensity, Stand Replacement Wildlife and the Risk of Heavy Tree Mortality from Insects and Disease, Deschutes National Forest Lands, Deschutes County, OR.

Summary: EPA does not object to the proposed action.

Dated: November 17, 2009.
Robert W. Hargrove,
Director, NEPA Compliance Division, Office of Federal Activities.

[FR Doc. E9-27966 Filed 11-20-09; 8:45 am]

BILLING CODE 6560-50-P